DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of January and February 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either:

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of section 246(a)(3)(A)(ii) of the Trade Act must be met.

I. Whether a significant number of workers in the workers' firm are 50 years of age or older.

II. Whether the workers in the workers' firm possess skills that are not easily transferable.

III. The competitive conditions within the workers' industry (i.e., conditions within the industry are adverse).

Affirmative Determinations for Worker Adjustment Assistance and Alternative Trade Adjustment Assistance

The following certifications have been issued; the date following the company name and location of each determination references the impact date for all workers of such determination.

The following certifications have been issued. The requirements of (a)(2)(A) (increased imports) of Section 222 have been met.

TA-W-58,545; Garner Automotive Electrical, Inc., Manufacturing Plant, Lexington, TN: December 23, 2004.

TA-W-58,545A; Garner Automotive Electrical, Inc., Administrative Office, Bartlett, TN: December 23, 2004.

TA-W-58,548; Keeler Brass Company, Subsidiary of FKI, PLC, Grand Rapids, MI: January 29, 2006.

TA-W-58,596; T.I. Industries, Inc., Lexington, NC: January 3, 2005.

TA-W-58,605; NVF Company, Yorklyn, DE: January 10, 2005.

TA-W-58,606; Osram Sylvania, Materials Div./Subsidiary of Siemens Corp., Warren, PA: February 7, 2006.

TA-W-58,622; Springs Global US, Inc., Charles D. Owen Mfg., Swannanoa, NC: January 12, 2005.

TA-W-58,627; Char Broil, LLC, Georgia, Inc.—D/B/A Bradley Select, Columbus, GA: January 4, 2005.

TA-W-58,627A; Char Broil, LLC, Georgia, Inc.—D/B/A Bradley Select, Opelika, AL: January 4, 2005.

TA-W-58,644; Corinthian, Inc., Sewing Department, Corinth, MS: January 12, 2005.

TA-W-58,714; Pine Island Sportswear, Ltd., Monroe, NC: January 19, 2005.

TA-W-58,275; Barth and Dreyfuss, Chino Div., Ontario, CA: October 26, 2004.

TA-W-58,448; Exopack, LLC, Monticello, AR: December 1, 2004.

TA-W-58,517; ISG Weirton, Inc., Formerly, Weirton Steel Corp, Weirton, WV: December 12, 2004.

TA-W-58,534; Robert Warren DBA Lance International, North Haven, CT: December 21, 2004.

The following certifications have been issued. The requirements of (a)(2)(B) (shift in production) of Section 222 have been met.

TA-W-58,288; Eastalco Aluminum Company, Subsidiary of Alcoa, Frederick, MD: November 7, 2004.

TA-W-58,288A; Eastalco Aluminum Company, Subsidiary of Alcoa, Baltimore, MD: November 7, 2004.

TA-W-58,688; Novar Controls, A Division of Honeywell Int.—Leased Workers of Manpower, Murfreesboro, TN: January 20, 2005.

TA-W-58,433; Consolidated Metco, Inc., Rivergate Division, Portland, OR: November 22, 2005.

TA-W-58,636; Smith and Nephew Endoscopy, Endoscopy Division, Andover, MA: January 11, 2005.

TA-W-58,722; Berger Company, Atchison, KS: January 25, 2005.

TA-W-58,685; Delta Faucet Company, Chickasha, OK: January 19, 2005.

TA-W-58,477; Dolce, Inc., Los Angeles, CA: November 29, 2006.

TA-W-58,719; Encore Group (The), United Design Division, Noble, OK: January 25, 2005.

The following certification has been issued. The requirement of supplier to a trade certified firm has been met.

None.

The following certification has been issued. The requirement of downstream producer to a trade certified firm has been met.

None.

Negative Determinations For Worker Adjustment Assistance

In the following cases, the investigation revealed that the criteria for eligibility have not been met for the reasons specified.

The investigation revealed that criterion (a)(2)(A)(I.A) and (a)(2)(B)(II.A) (no employment decline) has not been met.

TA-W-58,582; Esselte Business Corporation, Union, MO.

TA-W-58,695; American Truetzschler, Inc., Charlotte, NC.

The investigation revealed that criteria (a)(2)(A)(I.B.) (Sales or production, or both, did not decline) and (a)(2)(B)(II.B) (shift in production to a foreign country) have not been met.

None.

The investigation revealed that criteria (a)(2)(A)(I.C.) (increased imports) and (a)(2)(B)(II.B) (No shift in production to a foreign country) have not been met.

TA-W-58,405; NSK Corporation, Ann Arbor, MI.

TA-W-58,505; Rock-Tenn Company, Piedmont, SC.

TA-W-58,558,; Thomas C. Wilson, Inc., Long Island City, NY.

TA-W-58,560; Bennett Forest Industries, Inc., Elk City Sawmill, Grangeville, ID.

The investigation revealed that criteria (a)(2)(A)(I.C.) (Increased imports and (a)(2)(B)(II.C) (has shifted production to a foreign country) have not been met.

None.

The workers firm does not produce an article as required for certification under section 222 of the Trade Act of 1974.

TA-W-58,516; Hurley International, LLC, Costa Mesa, CA.

TA-W-58,546; Hamilton Sundstrand, Rockford Customer Service Repair Division, Rockford, IL.

TA-W-58,599; TRX Fulfillment Services, Atlanta, GA.

TA-W-58,676; Mainzer Minton Co., Hackettstown, NJ.

TA-W-58,730; Nestle Waters North America, Brea Division, Brea, CA.

The investigation revealed that criteria (2) has not been met. The workers firm (or subdivision) is not a supplier or downstream producer to trade-affected companies.

TA-W-58,516; Hurley International, LLC, Costa Mesa, CA.

TA-W-58,546; Hamilton Sundstrand, Rockford Customer Service Repair Division, Rockford, IL.

TA-W-58,599; TRX Fulfillment Services, Atlanta, GA.

TA-W-58,676; Mainzer Minton Co., Hackettstown, NJ.

TA-W-58,730; Nestle Waters North America, Brea Division, Brea, CA.

Negative Determinations For Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,532; Imenco Corp., Bay City, MI.

TA-W-58,516; Hurley International, LLC, Costa Mesa, CA.

TA-W-58,546; Hamilton Sundstrand, Rockford Customer Service Repair Division, Rockford, IL.

TA-W-58,599; TRX Fulfillment Services, Atlanta, GA.

TA-W-58,676; Mainzer Minton Co., Hackettstown, NJ.

TA-W-58,730; Nestle Waters North America, Brea Division, Brea, CA.

TA-W-58,405; NSK Corporation, Ann Arbor, MI.

TA-W-58,505; Rock-Tenn Company, Piedmont, SC.

TA-W-58,558,; Thomas C. Wilson, Inc., Long Island City, NY.

TA-W-58,560; Bennett Forest Industries, Inc., Elk City Sawmill, Grangeville, ID.

TA-W-58,582; Esselte Business Corporation, Union, MO.

TA-W-58,695; American Truetzschler, Inc., Charlotte, NC.

The Department as determined that criterion (1) of section 246 has not been met. Workers at the firm are 50 years of age or older.

TA-W-58,477; Dolce, Inc., Los Angeles, CA.

The Department as determined that criterion (2) of section 246 has not been met. Workers at the firm possess skills that are easily transferable.

TA-W-58,288; Eastalco Aluminum Company, Subsidiary of Alcoa, Frederick, MD.

TA-W-58,288A; Eastalco Aluminum Company, Subsidiary of Alcoa, Baltimore, MD.

TA-W-58,688; Novar Controls, A Division of Honeywell Int.—Leased Wkrs of Manpower, Murfreesboro, TN

TA-W-58,685; Delta Faucet Company, Chickasha, OK

The Department as determined that criterion (3) of section 246 has not been met. Competition conditions within the workers' industry are not adverse.

None.

I hereby certify that the aforementioned determinations were issued during the months of January and February 2006. Copies of these determinations are available for inspection in Room C-5311, U.S. Department of Labor, 200 Constitution Avenue, NW., Washington, DC 20210 during normal business hours or will be mailed to persons who write to the above address.

Dated: February 13, 2006.
Erica R. Cantor,
Director, Division of Trade Adjustment Assistance.

[FR Doc. E6-2500 Filed 2-21-06; 8:45 am]

BILLING CODE 4510-30-P